NATIONAL AERONAUTICS AND SPACE ADMINISTRATION

[Notice (02-044)]

Notice of Prospective Patent and Copyright License

AGENCY: National Aeronautics and Space Administration.

ACTION: Notice of prospective patent and copyright license.

SUMMARY: NASA hereby gives notice that American Remote Vision Company of Titusville, Florida has applied for an exclusive license to practice the invention described and claimed in U.S. Patent 5,970,798 entitled “Ultrasonic Bolt Gage.” This technology is assigned to the United States of America as represented by the Administrator of the National Aeronautics and Space Administration. Written objections to the prospective grant of a license should be sent to Randall M. Heald, Assistant Chief Counsel/Patent Counsel, and John F. Kennedy Space Center.

DATES: Responses to this Notice must be received by May 31, 2002.

FOR FURTHER INFORMATION CONTACT: Randall M. Heald, Assistant Chief Counsel/Patent Counsel, John F. Kennedy Space Center, Mail Code: CC-A, Kennedy Space Center, FL 32899, telephone (321) 867-7214.

Dated: March 25, 2002.
Robert M. Stephens,
Deputy General Counsel.

[FR Doc. 02-7788 Filed 3-29-02; 8:45 am]

BILLING CODE 7510-01-P